DEPARTMENT OF LABOR

[OMB Control No. 1225-0088]

Proposed Extension of Information Collection; Department of Labor Generic Clearance for the Collection of Feedback on Agency Service Delivery

AGENCY: Office of the Assistant Secretary for Administration and Management, Labor.

ACTION: Request for public comments.

SUMMARY: The Department of Labor (DOL), as part of its continuing effort to reduce paperwork and respondent burden, conducts a pre-clearance request for comment to provide the public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of the Assistant Secretary for Administration and Management (OASAM) is soliciting comments on the information collection for the Department of Labor Generic Clearance for the Collection of Feedback on Agency Service Delivery.

DATES: All comments must be received on or before September 25, 2023.

ADDRESSES: Electronic submission: You may submit comments and attachments electronically at http://www.regulations.gov. Follow the online instructions for submitting comments. A copy of this ICR with applicable supporting documentation; including a description of the likely respondents, proposed frequency of response, and estimated total burden may be obtained free by contacting Nicole Bouchet by telephone at (202) 693-0213 (this is not a toll-free number), or by email at DOL_PRA_PUBLIC@dol.gov. Submit written comments about, or requests for a copy of, this ICR by mail or courier to the U.S. Department of Labor, Office of the Assistant Secretary for Administration and Management, Room N1301, 200 Constitution Avenue NW, Washington, DC 20210; by email: DOL_PRA_PUBLIC@dol.gov.

All submissions received must include the agency name and OMB Control Number 1225-0088.

FOR FURTHER INFORMATION CONTACT: Nicole Bouchet, Acting Departmental Clearance Officer by telephone at 202-693-0213 (this is not a toll-free number), or by email at DOL_PRA_PUBLIC@dol.gov.

SUPPLEMENTARY INFORMATION:

I. Background

This information collection activity will be used to garner customer and stakeholder feedback in accordance with the Administration's commitment to improving service delivery. The feedback sought is information that provides useful insights on perceptions and opinions, but are not used as statistical surveys that yield quantitative results that can be generalized to the population of study. These collections will:

Provide insights into customer or stakeholder perceptions, experiences, and expectations; provide an early warning of issues with service; focus attention on areas where communication, training, or changes, in operations might improve delivery of products or services; provide ongoing, collaborative, and actionable communications between the DOL and its customers and stakeholders.

These collections will also allow feedback to contribute directly to the improvement of program management. Feedback collected under this generic clearance will provide useful information, but it will not yield data that can be generalized to the overall population.

This type of generic clearance for feedback information will not be designed to yield reliably actionable results such as, for example, monitoring trends over time or documenting program performance. Those sorts of data usages require more rigorous designs that address: The target population to which generalizations will be made; the sampling frame; the sample design (including stratification and clustering); the precision requirements or power calculations that justify the proposed sample size; the expected response rate; methods for assessing potential nonresponse bias; the protocols for data collection; and any testing procedures that were or will be undertaken prior fielding the study.

Depending on the degree of influence the results are likely to have, such collections may still be eligible for submission for other generic mechanisms that are designed to yield quantitative result.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

II. Desired Focus of Comments

OASAM is soliciting comments concerning the proposed information collection. OASAM is particularly interested in comments that:

• Evaluate whether the collection of information is necessary for the proper performance of the functions of the Agency, including whether the information has practical utility;

• Evaluate the accuracy of OASAM's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OASAM, located at Office of the Assistant Secretary for Administration and Management, Room N1301, Washington, DC 20210. Questions about the information collection requirements may be directed to the person listed in the FOR FURTHER INFORMATION section of this notice.

III. Current Actions

This information collection request concerns the Department of Labor's Generic Clearance for the Collection of Feedback on Agency Service Delivery. OASAM has updated the data with respect to the number of respondents, responses, burden hours, and burden costs supporting this information collection request from the previous information collection request.

Type of Review: Extension.

Agency: DOL—OASAM.

Title of Collection: Department of Labor Generic Clearance for the Collection of Feedback on Agency Service Delivery.

OMB Number: 1225-0088.

Affected Public: Individuals or Households; Business or other for-profit; Not-for-profit Institutions; State, Local or Tribal Government.

Number of Respondents: 400,000.

Number of Responses: 400,000.

Annual Burden Hours: 40,000 hours.

Annual Respondent or Recordkeeper Cost: $0.

Comments submitted in response to this notice will be summarized in the request for Office of Management and Budget approval of the proposed information collection request; they will become a matter of public record and will be available at https://www.reginfo.gov.

(Authority: 44 U.S.C. 3507(a)(1)(D))

Nicole Bouchet,
Acting Departmental Clearance Officer.

[FR Doc. 2023-15779 Filed 7-25-23; 8:45 am]

BILLING CODE 4510-23-P